DEPARTMENT OF AGRICULTURE

Forest Service

36 CFR Part 230

RIN 0596-AC84

Community Forest and Open Space Conservation Program; Approval of Information Collection Request

AGENCY: Forest Service, USDA.

ACTION: Final rule; notice of approval of Information Collection Request (ICR).

SUMMARY: The final rule entitled Community Forest and Open Space Conservation Program was published on October 20, 2011. The Office of Management and Budget approved and cleared the associated information collection requirements (ICR) on August 22, 2012. This document announces approval of the ICR.

DATES: The ICR associated with the final rule published in the Federal Register on October 20, 2011, at 76 FR 65121. The Office of Management and Budget (OMB) approved and cleared the associated Information Collection Requirements on August 22, 2012, under OMB Control Number 0596-0227.

FOR FURTHER INFORMATION CONTACT: Scott Stewart, U.S. Department of Agriculture, Forest Service, State and Private Forestry, Cooperative Forestry, 202-205-1618. Individuals who use telecommunication devices for the deaf (TDD) may call the Federal Information Relay Service (FIRS) at 1-800-877-8339 between 8:00 a.m. and 8:00 p.m., Eastern Standard Time, Monday through Friday.

Dated: October 16, 2012.
Harris D. Sherman,
Under Secretary, Natural Resources and Environment.

[FR Doc. 2012-26247 Filed 10-24-12; 8:45 am]

BILLING CODE 3410-11-P